DEPARTMENT OF THE INTERIOR

National Park Service

National Register of Historic Places; Notification of Pending Nominations

Nominations for the following properties being considered for listing in the National Register were received by the National Park Service before September 14, 2002.

Pursuant to § 60.13 of 36 CFR Part 60 written comments concerning the significance of these properties under the National Register criteria for evaluation may be forwarded by United States Postal Service, to the National Register Historic Places, National Park Service, 1849 C St., NW., NC400, Washington, DC 20240; by all other carriers, National Register of Historic Places, National Park Service,1201 Eye St., NW., 8th floor, Washington, DC 20005; or by fax, 202-343-1836. Written or faxed comments should be submitted by October 21, 2002.

Carol D. Shull,
Keeper of the National Register of Historic Places.

CALIFORNIA

Los Angeles County

Grey, Zane, Estate, 396 E. Mariposa St., Altadena, 02001187

GEORGIA

Carroll County

Whitesburg Baptist Church, 662 Main St., Whitesburg, 02001220

Douglas County

Douglas County Courthouse, 6754 W. Broad St., Douglasville, 02001216

Floyd County

Main High School, 41 Washington Dr., Rome, 02001219

Sullivan—Hillyer House, 309 E. Second Ave., Rome, 02001215

Harris County

Story—Hadley House, 2626 Hadley Rd., Pine Mountain, 02001217

Morgan County

Bostwick Historic District, Jct. of Bostwick Rd. and Fairplay Rd., Bostwick, 02001221

Taliaferro County

Chapman—Steed House, Broad St., Crawfordville, 02001218

Warren County

Warrenton Gymnasium—Auditorium, 304 S. Gibson St., Warrentown, 02001214

IOWA

Cass County

Atlantic High School, (Public Schools for Iowa: Growth and Change MPS) 1100 Linn St., Atlantic, 02001248

Cerro Gordo County

Thornton Consolidated School, (Public Schools for Iowa: Growth and Change MPS) 100 5th St. N, Thornton, 02001238

Ventura Consolidated School Historic District, (Public Schools for Iowa: Growth and Change MPS) Jct. of Mian and Park Sts., Ventura, 02001231

Delaware County

Lincoln Elementary School, (Public Schools for Iowa: Growth and Change MPS) 401 Lincoln St., Manchester, 02001243

Harrison County

Woodbine Normal School—Woodbine High School—Woodbine Grade School, (Public Schools for Iowa: Growth and Change MPS) 5th and Weare, Woodbine, 02001227

Henry County

Mt. Pleasant High School, (Public Schools for Iowa: Growth and Change MPS) 307 E. Monroe, Mt. Pleasant, 02001244

Jasper County

Emerson Hough Elementary School, (Public Schools for Iowa: Growth and Change MPS) 700 N. 4th Ave. E, Newton, 02001232

Polk County

Abraham Lincoln High School, (Public Schools for Iowa: Growth and Change MPS) 2600 SW 9th St., Des Moines, 02001250

East High School, (Public Schools for Iowa: Growth and Change MPS), 815 E. 13th St., Des Moines, 02001233

Greenwood School, (Public Schools for Iowa: Growth and Change MPS), 316 37th St., Des Moines, 02001235

James Callanan Junior High School, (Public Schools for Iowa: Growth and Change MPS), 3010 Center St., Des Moines, 02001236

Smouse, David W., Opportunity School, (Public Schools for Iowa: Growth and Change MPS), 2820 Center St., Des Moines, 02001251

Theodore Roosevelt Historic School, (Public Schools for Iowa: Growth and Change MPS), 4419 Center St., Des Moines, 02001234

Scott County

Jefferson Elementary School—Davenport, (Public Schools for Iowa: Growth and Change MPS), 1027 Marquette, Davenport, 02001241

Lincoln School, (Public Schools for Iowa: Growth and Change MPS), 318 E 7th St., Davenport, 02001239

Madison Elementary School, (Public Schools for Iowa: Growth and Change MPS), 116 East Locust, Davenport, 02001226

McKinley Elementary School, (Public Schools for Iowa: Growth and Change MPS), 1716 Kenwood, Davenport, 02001222

Monroe Elementary School, (Public Schools for Iowa: Growth and Change MPS), 1926 West 4th St., Davenport, 02001225

Washington Elementary School, (Public Schools for Iowa: Growth and Change MPS), 1608 East Locust, Davenport, 02001224

Shelby County

Irwin Consolidated School, (Public Schools for Iowa: Growth and Change MPS), North Street, Irwin, 02001246

Story County

Ames High School, (Public Schools for Iowa: Growth and Change MPS), 515 Clark Ave., Ames, 02001229

Union County

Jefferson Elementary School, (Public Schools for Iowa: Growth and Change MPS), 501 North Cherry, Creston, 02001223

Van Buren County

Bonaparte School, (Public Schools for Iowa: Growth and Change MPS), 610 8th St., Bonaparte, 02001242

Wapello County

Ottumwa High School, (Public Schools for Iowa: Growth and Change MPS), 501 East Second, Ottumwa, 02001245

Warren County

Inianola High School, (Public Schools for Iowa: Growth and Change MPS), 301 N. Buxton, Indianola, 02001247

Webster County

North High School, (Public Schools for Iowa: Growth and Change MPS), 1015 5th Ave. N, Fort Dodge, 02001249

South Junior High School, (Public Schools for Iowa: Growth and Change MPS), 416 S. 10th St., Fort Dodge, 02001240

Winnebago County

Lake Mills Senior High School, (Public Schools for Iowa: Growth and Change MPS), 102 S. 4th Ave. E, Lake Mills, 02001230

Woodbury County

Leeds Junior High School, (Public Schools for Iowa: Growth and Change MPS), 3919 Jefferson St., Sioux City, 02001228

MASSACHUSETTS

Hampshire County

Mill—Prospect Street Historic District, Prospect, Chetnut, Bridge, School Sts., Raymond Ave., Prospect Court, Hatfield, 02001188

Middlesex County

Cambridge Home for the Aged and Infirm, 650 Concord Ave., Cambridge, 02001189

Suffolk County

Harrison Square Historic District, Bounded by MBTA Braintree line embankment, Park, Everett, Freeport, Mill, Asland, Blanche Sts., Victory Rd., Boston, 02001190

MISSOURI

Bates County

Papinville Marais des Cygnes River Bridge, Cty. Rd. 648 over the Marais des Cygenes R., Papinville, 02001192

Greene County

Heer's Department Store, (Springfield, Missouri MPS (Additional Documentation)), 138 Park Central Square, Springfield, 02001207

Jackson County

Circle Apartments, (Apartment Buildings on the North End of the Paseo Boulevard in Kansas City, Missouri MPS), 1200 Paseo Blvd., Kansas City, 02001199

Ellsworth Apartments, (Apartment Buildings on the North End of the Paseo Boulevard in Kansas City, Missouri MPS), 928 Paseo Blvd., Kansas City, 02001203

Kessler Apartments, (Apartment Buildings on the North End of the Paseo Boulevard in Kansas City, Missouri MPS), 924 Paseo Blvd., Kansas City, 02001202

Maine Apartments, (Apartment Buildings on the North End of the Paseo Boulevard in Kansas City, Missouri MPS), 1300 Paseo Blvd., Kansas City, 02001198

Maples Apartments, (Apartment Buildings on the North End of the Paseo Boulevard in Kansas City, Missouri MPS), 1401 E. 10th St., Kansas City, 02001196

Maryland Apartments, (Apartment Buildings on the North End of the Paseo Boulevard in Kansas City, Missouri MPS), 930 Paseo Blvd., Kansas City, 02001204

McMahon Apartments, (Apartment Buildings on the North End of the Paseo Boulevard in Kansas City, Missouri MPS), 1106 Paseo Blvd., Kansas City, 02001195

Missouri Apartments, (Apartment Buildings on the North End of the Paseo Boulevard in Kansas City, Missouri MPS), 1304 Paseo Blvd., Kansas City, 02001197

New England Apartments, (Apartment Buildings on the North End of the Paseo Boulevard in Kansas City, Missouri MPS), 1116 Paseo Blvd., Kansas City, 02001200

Parkview, The, (Apartment Buildings on the North End of the Paseo Boulevard in Kansas City, Missouri MPS), 1000 Paseo Blvd., Kansas City, 02001205

Virginia Apartments, (Apartment Buildings on the North End of the Paseo Boulevard in Kansas City, Missouri MPS), 1100 Paseo Blvd., Kansas City, 02001201

Jasper County

St. Louis and San Francisco Railroad Building, 605 Main St., Joplin, 02001193

Marion County

Marion County Courthouse, 906 Broadway, Hannibal, 02001194

St. Louis Independent City

General American Life Insurance Co. Buildings, 1501-1511 Locust St., St. Louis (Independent City), 02001206

Wayne County

Fort Benton, MO U, 3.5 mi. S of jct of MO 34 and MO U, Patterson, 02001191

OHIO

Cuyahoga County

Gordon Square Historic District, Detroit Ave. and W. 65th St., Cleveland, 02001209

Medina County

Medina Masonic Temple and Medina Theater, 120 N. Elmwood Ave. and 139 W. Liberty St., Medina, 02001210

PUERTO RICO

Salinas Municipality Central Aguirre Historic District, PR 705, at PR 3, km. 151.3, Salinas, 02001208

TEXAS

Hays County

Michaelis, M.G., Ranch, 3600 FM 150 West, Kyler, 02001212

Onion Creek Post Office and Stagecoach House, 109 N. Loop 4, Buda, 02001211

WISCONSIN

Outagamie County

Appleton City Park Historic District, Roughly bounded by E. Washington, N. Durkee, E. Atlantic, and Lawe Sts., Appleton, 02001213

[FR Doc. 02-25255 Filed 10-3-02; 8:45 am]

BILLING CODE 4310-70-P